DEPARTMENT OF VETERANS AFFAIRS

[OMB Control No. 2900-0260]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before September 20, 2001.

FOR FURTHER INFORMATION OR A COPY OF THE SUBMISSION CONTACT: Denise McLamb, Information Management Service (045A4), Department of Veterans Affairs, 810 Vermont Avenue, NW, Washington, DC 20420, (202) 273-8030 or FAX (202) 273-5981 or e-mail denise.mclamb@mail.va.gov. Please refer to “OMB Control No. 2900-0260.”

SUPPLEMENTARY INFORMATION: Title: Request for and Consent to Release of Medical Records Protected by 38 U.S.C. 7332, VA Form 10-5345.

OMB Control Number: 2900-0260.

Type of Review: Extension of a currently approved collection.

Abstract: VA Form 10-5345 is used to obtain prior written consent from a patient before information concerning treatment for alcoholism or alcohol abuse, drug abuse, sickle cell anemia, or infection with the human immunodeficiency virus (HIV) can be disclosed from his or her medical record. This special consent must indicate the name of the facility permitted to make the disclosure, name of the individual or organization to whom the information is being released, specify the particular records or information to be released, and be under the signature of the veteran. It must reflect the purpose for which the information is to be used, and include a statement that the consent is subject to revocation and the date, event or condition upon which the consent will expire if not revoked before.

An agency may not conduct or sponsor, and a person is not required to respond to a collection of information unless it displays a currently valid OMB control number. The Federal Register notice with a 60-day comment period soliciting comments on this collection of information was published on June 4, 2001, at pages 30048-30049.

Affected Public: Business or other for profit, Individuals or households.

Estimated Total Annual Burden: 10,867 hours.

Estimated Average Burden Per Respondent: 2 minutes.

Frequency of Response: On occasion.

Estimated Number of Respondents: 326,000.

Send comments and recommendations concerning any aspect of the information collection to VA's OMB Desk Officer, OMB Human Resources and Housing Branch, New Executive Office Building, Room 10235, Washington, DC 20503, (202) 395-7316. Please refer to “OMB Control No. 2900-0260” in any correspondence.

Dated: August 10, 2001.
By direction of the Secretary.
Donald L. Neilson,
Director, Information Management Service.

[FR Doc. 01-20990 Filed 8-20-01; 8:45 am]

BILLING CODE 8320-01-P